NATIONAL SCIENCE FOUNDATION

Advisory Committee for Small Business Industrial Innovation; Notice of Meeting

In accordance with the Federal Advisory Committee Act (Public Law 92-463, as amended), the National Science Foundation announces the following meeting:

Name: Advisory Committee for Small Business Industrial Innovation (61).

Date/Time: May 7-8, 2001, 8:30 a.m.-5:30 p.m.

Place: Room 580, National Science Foundation, 4201 Wilson Boulevard, Arlington, VA.

Type of Meeting: Closed.

Contact Person: Dr. Joseph Hennessey, Acting Director, Industrial Innovation, (703) 292-8330, National Science Foundation, 4201 Wilson Boulevard, Arlington, VA 22230.

Purpose of Meeting: To carry out Committee of Visitors (COV) review, including programs evaluation, GPRA assessments, and access to privileged materials.

Agenda: To review the integrity and efficiency of the merit review processes and effectiveness of the programs and quality of the results of the program in the form of outputs and outcomes over time, and to evaluate the results in terms of outputs and outcomes of the program investments, as well as observations and conclusions made during the immediately preceding three fiscal years of the Small Business Innovation Research (SBIR)/Small Business Technology Transfer (STTR) Programs.

Reason For Closing: The proposals being reviewed include information of a proprietary or confidential nature, including technical information, financial data, such as salaries, and personal information concerning individuals associated with the proposals. These matters that are exempt under 5 U.S.C. 522b(c), (4) and (6) of the Government in the Sunshine Act.

Dated: April 17, 2001.
Susanne Bolton,
Committee Management Officer.

[FR Doc. 01-9850 Filed 4-19-01; 8:45 am]

BILLING CODE 7555-01-M